DEPARTMENT OF ENERGY

Federal Energy Regulatory Commission

Combined Notice of Filings #1

Take notice that the Commission received the following electric corporate filings:

Docket Numbers: EC16-187-000.

Applicants: Quantum Pasco Power, LP, Rockland Pasco Holdings, LLC.

Description: Supplement to September 23, 2016 Joint Application of Quantum Pasco Power, LP, et al. for Authorization of Disposition of Jurisdictional Facilities Under Section 203 of the FPA and Request for Shortened Notice Period.

Filed Date: 10/17/16.

Accession Number: 20161017-5065.

Comments Due: 5 p.m. ET 10/27/16.

Docket Numbers: EC17-14-000.

Applicants: Sunflower Wind Project, LLC.

Description: Application for Disposition of Jurisdictional Assets of Sunflower Wind Project, LLC.

Filed Date: 10/17/16.

Accession Number: 20161017-5144.

Comments Due: 5 p.m. ET 11/7/16.

Docket Numbers: EC17-15-000.

Applicants: Cimarron Bend Wind Project I, LLC, Cimarron Bend Assets, LLC.

Description: Application for Disposition of Jurisdictional Assets of Cimarron Bend Wind Project I, LLC, et al.

Filed Date: 10/17/16.

Accession Number: 20161017-5147.

Comments Due: 5 p.m. ET 11/7/16.

Docket Numbers: EC17-16-000.

Applicants: Lindahl Wind Project, LLC.

Description: Application for Authorization Under Section 203 of the Federal Power Act, Request for Expedited Consideration and Confidential Treatment of Lindahl Wind Project, LLC.

Filed Date: 10/17/16.

Accession Number: 20161017-5148.

Comments Due: 5 p.m. ET 11/7/16.

Docket Numbers: EC17-17-000.

Applicants: Coram California Development, L.P.

Description: Application for Disposition of Jurisdictional Facilities, et al. of Coram California Development, L.P.

Filed Date: 10/17/16.

Accession Number: 20161017-5165.

Comments Due: 5 p.m. ET 11/7/16.

Docket Numbers: EC17-18-000.

Applicants: TTK Power, LLC, Empire Generating Co, LLC.

Description: Application under Section 203 of the Federal Power Act, et al. of Empire Generating Co, LLC, et al.

Filed Date: 10/18/16.

Accession Number: 20161018-5110.

Comments Due: 5 p.m. ET 11/8/16.

Take notice that the Commission received the following exempt wholesale generator filings:

Docket Numbers: EG17-14-000.

Applicants: ESS Rabbit Hill Project, LLC.

Description: Notice of Self-Certification of Exempt Wholesale Generator Status of ESS Rabbit Hill Project, LLC.

Filed Date: 10/17/16.

Accession Number: 20161017-5177.

Comments Due: 5 p.m. ET 11/7/16.

Take notice that the Commission received the following electric rate filings:

Docket Numbers: ER10-2564-007; ER10-2600-007; ER10-2289-007.

Applicants: Tucson Electric Power Company, UNS Electric, Inc., UniSource Energy Development Company.

Description: Notification of Changes in Status of Tucson Electric Power Company, et al.

Filed Date: 10/17/16.

Accession Number: 20161017-5179.

Comments Due: 5 p.m. ET 11/7/16.

Docket Numbers: ER10-2794-020; ER14-2672-005; ER12-1825-018.

Applicants: EDF Trading North America, LLC, EDF Energy Services, LLC, EDF Industrial Power Services (CA), LLC.

Description: Notice of Non-Material Change in Status of EDF Trading North America, LLC, et al.

Filed Date: 10/17/16.

Accession Number: 20161017-5178.

Comments Due: 5 p.m. ET 11/7/16.

Docket Numbers: ER16-1483-004.

Applicants: California Independent System Operator Corporation.

Description: Compliance filing: 2016-10-17 Compliance Filing with Sept. 16 Order Frequency Response to be effective 8/15/2016.

Filed Date: 10/17/16.

Accession Number: 20161017-5138.

Comments Due: 5 p.m. ET 11/7/16.

Docket Numbers: ER17-114-001.

Applicants: California Independent System Operator Corporation.

Description: Compliance filing: 2016-10-17 Errata to Order 827 Order 828 Compliance Filing to be effective 9/21/2016.

Filed Date: 10/17/16.

Accession Number: 20161017-5141.

Comments Due: 5 p.m. ET 11/7/16.

Docket Numbers: ER17-131-000.

Applicants: Pacific Gas and Electric Company.

Description: § 205(d) Rate Filing: Quarterly Filing of City and County of San Francisco's WDT SA 275 for Q3 2016 to be effective 9/30/2016.

Filed Date: 10/18/16.

Accession Number: 20161018-5000.

Comments Due: 5 p.m. ET 11/8/16.

Docket Numbers: ER17-132-000.

Applicants: Portland General Electric Company.

Description: § 205(d) Rate Filing: PGE11 MBR Sec 6 waiver revision to be effective 8/29/2016.

Filed Date: 10/18/16.

Accession Number: 20161018-5002.

Comments Due: 5 p.m. ET 11/8/16.

Docket Numbers: ER17-133-000.

Applicants: PJM Interconnection, L.L.C.

Description: § 205(d) Rate Filing: ISA No. 4541, Queue W1-124/AA2-049, Notice of Cancellation of 2840, 2926, 3061 to be effective 5/10/2011.

Filed Date: 10/18/16.

Accession Number: 20161018-5054.

Comments Due: 5 p.m. ET 11/8/16.

Docket Numbers: ER17-134-000.

Applicants: American Transmission Systems, Incorporation, PJM Interconnection, L.L.C.

Description: § 205(d) Rate Filing: American Transmission Systems, Inc. Submits ECSA No. 4553 to be effective 12/9/2016.

Filed Date: 10/18/16.

Accession Number: 20161018-5105.

Comments Due: 5 p.m. ET 11/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2016.
Nathaniel J. Davis, Sr.,
Deputy Secretary.

[FR Doc. 2016-25876 Filed 10-25-16; 8:45 am]

BILLING CODE 6717-01-P